DEPARTMENT OF VETERANS AFFAIRS

Advisory Committee on Minority Veterans, Notice of Charter Renewal

This gives notice under the Federal Advisory Committee Act (Public Law 92-463) of October 6, 1972, that the Advisory Committee on Minority Veterans has been renewed for a period beginning April 18, 2000, through April 18, 2002.

Dated: April 21, 2000.
By direction of the Secretary.
Marvin R. Eason,
Committee Management Officer.

[FR Doc. 00-10773 Filed 4-28-00; 8:45 am]

BILLING CODE 8320-01-M